NUCLEAR REGULATORY COMMISSION

10 CFR Part 72

RIN 3150-AG97

List of Approved Spent Fuel Storage Casks: HI-STORM 100 Revision; Withdrawal of Direct Final Rule

AGENCY: Nuclear Regulatory Commission.

ACTION: Direct final rule; withdrawal.

SUMMARY: The Nuclear Regulatory Commission (NRC) is withdrawing a direct final rule that would have revised the Holtec International HI-STORM 100 cask system listing within the list of approved spent fuel storage casks to include Amendment No. 1 to the Certificate of Compliance. The NRC is taking this action because it has received a significant adverse comment in response to an identical proposed rule which was concurrently published with the direct final rule.

FOR FURTHER INFORMATION CONTACT: Jayne M. McCausland, Office of Nuclear Material Safety and Safeguards, U.S. Nuclear Regulatory Commission, Washington, DC 20555. Telephone (301) 415-6219 (e-mail: jmm2@nrc.gov).

SUPPLEMENTARY INFORMATION: On March 27, 2002 (67 FR 14627), the NRC published in the Federal Register a direct final rule amending its regulations in 10 CFR 72.214 to revise the Holtec International HI-STORM 100 cask system listing within the “List of approved spent fuel storage casks” to include Amendment No. 1 to the Certificate of Compliance. Amendment No. 1 would have modified the present cask system design to: Add four new multipurpose canisters; add new containers for damaged fuel; add the HI-STORM 100S overpack and the 100A and 100SA high-seismic anchored overpacks; allow the storage of high-burnup fuel; delete the Technical Specifications for special requirements for the first systems in place and for training requirements and relocate these requirements to the main body of CoC 1014; and allow the storage of selected nonfuel hardware. The amendment would also have used revised thermal analysis tools to include natural convection heat transfer; revised the helium backfill requirements to allow a helium density measurement to be used; allowed a helium drying system rather than the existing vacuum drying system; and required soluble boron during canister loading for certain higher enriched fuels. In addition, modifications would have been made to applicable CoC conditions and sections of Appendices A and B to the CoC to reflect the changes. The direct final rule was to become effective on June 10, 2002. The NRC also concurrently published a companion proposed rule on March 27, 2002 (67 FR 14662).

In the March 27, 2002, direct final rule, NRC stated that if any significant adverse comments were received, a notice of timely withdrawal of the direct final rule would be published in the Federal Register.

The NRC received a significant adverse comment on the direct final rule; therefore, the NRC is withdrawing the direct final rule. The significant adverse comment related to concern with (1) interactions between the non-fuel hardware and the fuel and (2) the absence of documentation of NRC's analysis to accept the storage of the non-fuel hardware. As stated in the March 27, 2002, direct final rule, NRC will address the comments received on the March 27, 2002, companion proposed rule in a subsequent final rule. The NRC will not initiate a second comment period on this action.

Dated at Rockville, Maryland, this 31st day of May, 2002.
For the Nuclear Regulatory Commission.
William F. Kane,
Acting Executive Director for Operations.

[FR Doc. 02-14341 Filed 6-6-02; 8:45 am]

BILLING CODE 7590-01-P